DEPARTMENT OF HOMELAND SECURITY

Coast Guard

33 CFR Part 165

[Docket No. USCG-2012-0052]

RIN 1625-AA87

Security Zones; North Atlantic Treaty Organization (NATO) Summit, Chicago, IL

AGENCY: Coast Guard, DHS.

ACTION: Temporary final rule; correction.

SUMMARY: This document corrects the preamble of the Temporary Final Rule (TFR) published in the Federal Register on April 13, 2012. In the preamble, the Coast Guard stated that no comments were received regarding the proposed rule (77 FR 13232) that would establish four separate security zones in the Chicago Harbor and Chicago River during the NATO Summit. This statement is incorrect. The Coast Guard received one comment.

DATES: Effective May 2, 2012.

FOR FURTHER INFORMATION CONTACT: CWO Jon Grob, Prevention Department, Coast Guard Sector Lake Michigan, Milwaukee, WI (414) 747-7188.

SUPPLEMENTARY INFORMATION: Correction: On March 10, 2012, the Burnham Park Yacht Club (BPYC) submitted a comment in response to the Coast Guard's NPRM that preceded the aforesaid TFR. In its comment, the BPYC described itself as a non-profit organization that provides tender services, mast stepping, and dining to BPYC members and to the public in general. The BPYC explained that it expects the NATO conference to have two impacts on its business. First, the BPYC expects the NATO conference to severely limit the BPYC's income stream, which is normally generated from the aforementioned services. Second, the BPYC expects the NATO conference to have an impact on the BPYC's membership development, which typically occurs in mid April. In light of these impacts, the BPYC asked to meet with an agent of the Coast Guard to discuss the BPYC's expected losses and to arrive at a reasonable compensation. On April 20, 2012, a member of the Coast Guard's offices in Cleveland, OH, on behalf of the Captain of the Port, Sector Lake Michigan, telephoned the BPYC and confirmed the above understanding of the BPYC's comment and its request.

In light of the BPYC's comment, the Coast Guard will not change the TFR published on April 13, 2012. Although the BPYC raised concerns about the economic impact of the Coast Guard's security zones, the BPYC's comment did not directly speak to the design, the establishment, or the enforcement of these security zones. The BPYC did not ask the Coast Guard to modify the security zones or to reconsider the manner in which they are enforced. Rather, the BPYC simply asked to meet with the Coast Guard to discuss compensation. While the Coast Guard takes seriously the economic impact that its rules might have on small entities, the Coast Guard is unable to provide compensation to small entities so impacted.

Although the Coast Guard is unable to directly compensate small entities for the economic impacts of its rules, the BPYC is encouraged to contact CWO Jon Grob via the contact information provided above to discuss the Coast Guard's enforcement of the security zones discussed herein and options for compliance.

Dated: April 24, 2012.
C.W. Tenney,
Commander, U.S. Coast Guard Captain of the Port, Sector Lake Michigan, Acting.

[FR Doc. 2012-10549 Filed 5-1-12; 8:45 am]

BILLING CODE 9110-04-P